DEPARTMENT OF THE TREASURY

Internal Revenue Service

26 CFR Part 1

[REG-130262-03]

RIN 1545-BC28

Guidance Under Section 1502; Stock Basis After a Group Structure Change; Correction

AGENCY: Internal Revenue Service (IRS), Treasury.

ACTION: Correction to notice of proposed rulemaking.

SUMMARY: This document contains corrections to a notice of proposed rulemaking that was published in the Federal Register on Tuesday, July 8, 2003 (68 FR 40579), that relate to stock basis after a group structure change.

FOR FURTHER INFORMATION CONTACT: Marlene Oppenheim or Ross Poulsen at (202) 622-7770; concerning submission of comments and/or requests for a public hearing, Sonya Cruse, (202) 622-7180 (not a toll-free number).

SUPPLEMENTARY INFORMATION:

Background

The notice of proposed rulemaking that is the subject of this correction is under section 1502 of the Internal Revenue Code.

Need for Correction

As published, the notice of proposed rulemaking contains errors that may prove to be misleading and are in need of clarification.

Correction of Publication

Accordingly, the publication of the notice of proposed regulations (REG-130262-03), that was the subject of FR Doc. 03-17091, is corrected as follows:

1. On page 40579, column 3, under paragraph heading FOR FURTHER INFORMATION CONTACT: lines 5 and 6, the language, “public hearing, Sonya Cruse, (202) 622-7180 (not toll-free numbers).” is corrected to read “public hearing, Sonya Cruse, (202) 622-4693 (not toll-free numbers).”

§ 1.1502-31 [Corrected]

2. On page 40580, column 2, § 1.1502-31(b)(2), lines 10 through 13, the language, “has, or would otherwise have, a basis determined in whole or in part by reference to the basis of the property exchanged for such stock is” is corrected to read “is, or would otherwise be, transferred basis property is”.

3. On page 40580, column 2, § 1.1502-31(d)(2)(ii), lines 14 through 18, the language, “change and the basis of such stock would otherwise be determined in whole or in part by reference to the basis of the property exchanged for such stock, only and allocable part of the basis” is corrected to read “change and such stock would otherwise be transferred basis property, only an allocable part of the basis”.

4. On page 40581, column 2, Example 3., lines 11 through 14, the language, “basis in its acquired T stock is not determined in whole or in part by reference to the basis of the property exchanged for such stock. (Because of P's use of cash, the” is corrected to read “acquired T stock is not transferred basis property. (Because of P's use of cash, the”.

Cynthia E. Grigsby,
Acting Chief, Publications and Regulations Branch, Legal Processing Division, Associate Chief Counsel (Procedure and Administration).

[FR Doc. 03-22553 Filed 9-3-03; 8:45 am]

BILLING CODE 4830-01-P